DEPARTMENT OF ENERGY

Federal Energy Regulatory Commission

18 CFR Part 35

[Docket No. RM22-19-000; Order No. 893]

Incentives for Advanced Cybersecurity Investment

AGENCY: Federal Energy Regulatory Commission, Department of Energy.

ACTION: Final rule; correction.

SUMMARY: The Federal Energy Regulatory Commission (Commission) is correcting a final rule that appeared in the Federal Register on May 3, 2023. The final rule revised the Commission's regulations to provide incentive-based rate treatment for the transmission of electric energy in interstate commerce and the sale of electric energy at wholesale in interstate commerce by utilities for the purpose of benefitting consumers by encouraging investments by utilities in Advanced Cybersecurity Technology and participation by utilities in cybersecurity threat information sharing programs, as directed by the Infrastructure Investment and Jobs Act of 2021.

DATES: The rule is effective July 3, 2023.

FOR FURTHER INFORMATION CONTACT: Alan J. Rukin (Legal Information), Office of the General Counsel, Federal Energy Regulatory Commission, 888 First Street NE, Washington, DC 20426, (202) 502-8502, alan.rukin@ferc.gov.

SUPPLEMENTARY INFORMATION: In FR Doc. 2023-08929 appearing on pages 28348-28380, in the Federal Register of Wednesday, May 3, 2023, the following corrections are made:

Preamble Corrections

1. On page 28373, in the second column, the first sentence of paragraph 191 is corrected to read as follows:

191. We note that § 35.48(j) to the Commission's regulations declares that utilities may request CEII treatment for the portions of their cybersecurity incentive-based rate filings that contains CEII. * * *

2. On page 28374, in the third column, the first sentence of paragraph 203 is corrected to read as follows:

203. We note that § 35.48(j) to the Commission's regulations declares that utilities may request CEII treatment for the portions of their cybersecurity incentive-based rate informational reports that contain CEII. * * *

Regulatory Text Corrections

3. Starting on page 28377, in the second column, and going through page 28378, in the second column, in amendatory instruction 2 for § 35.48, paragraphs (d) introductory text, (h)(1), and (j) are corrected to read as follows:

§ 35.48 [Corrected]

* * * * *

(d) Eligibility criteria. Pursuant to paragraphs (e) through (j) of this section, a utility may receive incentive-based rate treatment for a cybersecurity investment that:

* * * * *

(h) * * *

(1) A demonstration that the cybersecurity investment satisfies the eligibility criteria, which includes an attestation that cybersecurity investment is not mandatory, as required by paragraph (d)(2) of this section, and that the resulting rate is just and reasonable and not unduly discriminatory or preferential;

* * * * *

(j) Transmittal of CEII in incentive applications and annual reports. As appropriate, any CEII submitted to the Commission in a utility's incentive application made pursuant to paragraph (h) of this section or contained in its reporting requirements made pursuant to paragraph (i) of this section shall be filed consistent with part 388 of this title.

* * * * *

Dated: June 1, 2023.
Debbie-Anne A. Reese,
Deputy Secretary.

[FR Doc. 2023-12184 Filed 6-6-23; 8:45 am]

BILLING CODE 6717-01-P